DEPARTMENT OF COMMERCE

International Trade Administration

[A-580-839]

Certain Polyester Staple Fiber From the Republic of Korea: Notice of Extension of Time Limit for the 2006-2007 Administrative Review

AGENCY: Import Administration, International Trade Administration, Department of Commerce.

EFFECTIVE DATE: December 28, 2007.

FOR FURTHER INFORMATION CONTACT: Yasmin Nair or Andrew McAllister, AD/CVD Operations, Office 1, Import Administration, International Trade Administration, U.S. Department of Commerce, 14th Street and Constitution Avenue, NW, Washington, DC 20230, telephone (202) 482-3813 or (202) 482-1174, respectively.

SUPPLEMENTARY INFORMATION:

Statutory Time Limits

Section 751(a)(3)(A) of the Tariff Act of 1930, as amended (“the Act”), requires the Department of Commerce (“Department”) to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Background

On June 29, 2007, the Department published a notice of initiation of an administrative review of the antidumping duty order on certain polyester staple fiber (“PSF”) from the Republic of Korea (“Korea”), covering the period May 1, 2006, through April 30, 2007. See Initiation of Antidumping and Countervailing Duty Administrative Reviews, Request for Revocation in Part and Deferral of Administrative Review, 72 FR 35690 (June 29, 2007). The preliminary results for this review are currently due no later than January 31, 2008.

Extension of Time Limits for Preliminary Results

The Department requires additional time to review and analyze the respondent's sales and cost information and to issue supplemental questionnaires. Thus, it is not practicable to complete this review within the previously established time limit (i.e., by January 31, 2008). Therefore, the Department is extending the time limit for completion of these preliminary results by 120 days to not later than May 30, 2008, in accordance with section 751(a)(3)(A) of the Act.

We are issuing and publishing this notice in accordance with sections 751(a)(3)(A) and 777(i)(1) of the Act.

Dated: December 18, 2007.
Stephen J. Claeys,
Deputy Assistant Secretary for Import Administration.

[FR Doc. E7-25313 Filed 12-27-07; 8:45 am]

BILLING CODE 3510-DS-S